DEPARTMENT OF ENERGY

Federal Energy Regulatory Commission

[Docket No. ER01-971-000, et al.]

Duke Energy Corporation, et al; Electric Rate and Corporate Regulation Filings

January 22, 2001.

Take notice that the following filings have been made with the Commission:

1. Duke Energy Corporation

[Docket No. ER01-971-000]

Take notice that on January 17, 2001, Duke Energy Corporation (Duke), tendered for filing a Service Agreement with Duke Power, a division of Duke Energy for Firm Point-To-Point Transmission Service under Duke's Open Access Transmission Tariff.

Duke requests that the proposed Service Agreement be permitted to become effective on December 19, 2000.

Duke states that this filing is in accordance with Part 35 of the Commission's Regulations and a copy has been served on the North Carolina Utilities Commission.

Comment date: February 7, 2001, in accordance with Standard Paragraph E at the end of this notice.

2. Allegheny Energy Service Corporation on behalf of Monongahela Power Company, The Potomac Edison Company, and West Penn Power Company (Allegheny Power)

[Docket No. ER01-614-001]

Take notice that on January 16, 2001, Allegheny Energy Service Corporation on behalf of Monongahela Power Company, The Potomac Edison Company and West Penn Power Company (Allegheny Power), tendered for filing First Revised Service Agreement No. 73 under the Market Rate Tariff to incorporate a Netting Agreement with PG&E Energy Trading—Power, L.P., into the tariff provisions.

Allegheny Power requests a waiver of notice requirements to make the Netting Agreement effective as of January 3, 2001.

Copies of the filing have been provided to the Public Utilities Commission of Ohio, the Pennsylvania Public Utility Commission, the Maryland Public Service Commission, the Virginia State Corporation Commission, the West Virginia Public Service Commission, and all parties of record.

Comment date: February 7, 2001, in accordance with Standard Paragraph E at the end of this notice.

3. Duke Energy Corporation

[Docket No. ER01-972-000]

Take notice that on January 17, 2001, Duke Energy Corporation (Duke), tendered for filing a Service Agreement with Duke Power, a division of Duke Energy for Firm Point-To-Point Transmission Service under Duke's Open Access Transmission Tariff.

Duke requests that the proposed Service Agreement permitted to become effective on December 20, 2000.

Duke states that this filing is in accordance with Part 35 of the Commission's Regulations and a copy has been served on the North Carolina Utilities Commission.

Comment date: February 7, 2001, in accordance with Standard Paragraph E at the end of this notice.

4. Duke Energy Corporation

[Docket No. ER01-973-000]

Take notice that on January 17, 2001, Duke Energy Corporation (Duke), tendered for filing a Service Agreement with Duke Power, a division of Duke Energy for Firm Point-To-Point Transmission Service under Duke's Open Access Transmission Tariff.

Duke requests that the proposed Service Agreement be permitted to become effective on December 20, 2000.

Duke states that this filing is in accordance with Part 35 of the Commission's Regulations and a copy has been served on the North Carolina Utilities Commission.

Comment date: February 7, 2001, in accordance with Standard Paragraph E at the end of this notice.

5. Duke Energy Corporation

[Docket No. ER01-974-000]

Take notice that on January 17, 2001, Duke Energy Corporation (Duke), tendered for filing a Service Agreement with Carolina Power & Light Company for Firm Point-To-Point Transmission Service under Duke's Open Access Transmission Tariff.

Duke requests that the proposed Service Agreement be permitted to become effective on December 19, 2000.

Duke states that this filing is in accordance with Part 35 of the Commission's Regulations and a copy has been served on the North Carolina Utilities Commission.

Comment date: February 7, 2001, in accordance with Standard Paragraph E at the end of this notice.

6. Duke Energy Corporation

[Docket No. ER01-975-000]

Take notice that on January 17, 2001, Duke Energy Corporation (Duke), tendered for filing a Service Agreement with TransAlta Energy Marketing (U.S.), Inc., for Firm Point-To-Point Transmission Service under Duke's Open Access Transmission Tariff.

Duke requests that the proposed Service Agreement be permitted to become effective on January 8, 2001.

Duke states that this filing is in accordance with Part 35 of the Commission's Regulations and a copy has been served on the North Carolina Utilities Commission.

Comment date: February 7, 2001, in accordance with Standard Paragraph E at the end of this notice.

7. Duke Energy Corporation

[Docket No. ER01-976-000]

Take notice that on January 17, 2001, Duke Energy Corporation (Duke), tendered for filing a Service Agreement with Sempra Energy Trading Corp. for Firm Transmission Service under Duke's Open Access Transmission Tariff.

Duke requests that the proposed Service Agreement be permitted to become effective on December 19, 2000.

Duke states that this filing is in accordance with Part 35 of the Commission's Regulations and a copy has been served on the North Carolina Utilities Commission.

Comment date: February 7, 2001, in accordance with Standard Paragraph E at the end of this notice.

8. Southwest Power Pool, Inc.

[Docket No. ER01-977-000]

Take notice that on January 17, 2001, Southwest Power Pool, Inc. (SPP), tendered for filing 82 executed service agreements for Loss Compensation Service under the SPP Tariff.

SPP seeks an effective date of January 1, 2001, for each of these agreements.

Comment date: February 7, 2001, in accordance with Standard Paragraph E at the end of this notice.

9. Brownsville Power I, L.L.C.

[Docket No. ER01-978-000]

Take notice that on January 17, 2001, Brownsville Power I, L.L.C., tendered for filing a notice of change in status and amendments to its market-based rate tariff and code of conduct to reflect its pending affiliation with Cinergy Corp., and its franchised public utility subsidiaries.

Comment date: February 7, 2001, in accordance with Standard Paragraph E at the end of this notice.

10. Caledonia Power I, L.L.C.

[Docket No. ER01-979-000]

Take notice that on January 17, 2001, Caledonia Power I, L.L.C., tendered for filing a notice of change in status and amendments to its market-based rate tariff and code of conduct to reflect its pending affiliation with Cinergy Corp., and its franchised public utility subsidiaries.

Comment date: February 7, 2001, in accordance with Standard Paragraph E at the end of this notice.

11. Southwest Power Pool, Inc.

[Docket No. ER01-980-000]

Take notice that on January 17, 2001, Southwest Power Pool, Inc., tendered for filing notice that effective January 17, 2001, Service Agreement No. 406, effective date June 29, 2000, and filed with the Federal Energy Regulatory Commission in Docket No. ER01-431 by Southwest Power Pool, Inc., is to be canceled.

Notice of the proposed cancellation have been served upon Southwestern Public Service Company—Wholesale Merchant Function.

Comment date: February 7, 2001, in accordance with Standard Paragraph E at the end of this notice.

12. Entergy Services, Inc.

[Docket No. ER01-982-000]

Take notice that on January 17, 2001, Entergy Services, Inc. (Entergy Services), on behalf of Entergy Arkansas, Inc., and Entergy Gulf States, Inc., tendered for filing Generator Imbalance Agreements between Entergy Gulf States, Inc., and Entergy Services, and between Entergy Arkansas, Inc., and Entergy Power Inc.

Comment date: February 7, 2001, in accordance with Standard Paragraph E at the end of this notice.

13. Allegheny Energy Service Corporation on behalf of Allegheny Energy Supply Hunlock Creek, LLC

[Docket No. ER01-983-000]

Take notice that on January 17, 2001, Allegheny Energy Service Corporation on behalf of Allegheny Energy Supply Hunlock Creek, LLC filed Service Agreement No. 1 to add one (1) new Customer to the Market Rate Tariff under which Allegheny Energy Supply Hunlock Creek, LLC offers generation services.

Allegheny Energy Supply Hunlock Creek, LLC requests a waiver of notice requirements to make service available as of November 13, 2000 to Allegheny Energy Supply Company, LLC.

Copies of the filing have been provided to the Public Utilities Commission of Ohio, the Pennsylvania Public Utility Commission, the Maryland Public Service Commission, the Virginia State Corporation Commission, the West Virginia Public Service Commission, and all parties of record.

Comment date: February 7, 2001, in accordance with Standard Paragraph E at the end of this notice.

14. MidAmerican Energy Company

[Docket No. ER01-984-000]

Take notice that on January 17, 2001, MidAmerican Energy Company (MidAmerican), 401 Douglas Street, P.O. Box 778, Sioux City Iowa 51102, tendered for filing with the Commission a Firm Transmission Service Agreement between MidAmerican, as transmission provider, and MidAmerican Energy Company, as wholesale merchant. The Agreement is dated December 29, 2000 and has been entered into pursuant to MidAmerican's Open Access Transmission Tariff.

MidAmerican requests an effective date of January 1, 2001 for the Agreement and seeks a waiver of the Commission's notice requirement.

MidAmerican has served a copy of the filing on the Iowa Utilities Board, the Illinois Commerce Commission and the South Dakota Public Utilities Commission.

Comment date: February 7, 2001, in accordance with Standard Paragraph E at the end of this notice.

15. MidAmerican Energy Company

[Docket No. ER01-985-000]

Take notice that on January 17, 2001, MidAmerican Energy Company (MidAmerican), 401 Douglas Street, P. O. Box 778, Sioux City Iowa 51102, tendered for filing with the Commission the Fourth Amendment to Network Integration Transmission Service Agreement entered into by MidAmerican and the City of Sergeant Bluff, Iowa, dated December 29, 2000. The Agreement amends the Network Integration Transmission Service Agreement dated April 7, 1997, between the parties.

MidAmerican requests an effective date of January 1, 2001 for the Agreement and seeks a waiver of the Commission's notice requirement.

MidAmerican has served a copy of the filing on the Iowa Utilities Board and the City of Sergeant Bluff, Iowa.

Comment date: February 7, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-2385 Filed 1-25-01; 8:45 am]

BILLING CODE 6717-01-P